DEPARTMENT OF COMMERCE

International Trade Administration

[A-821-818]

Notice of Final Determination of Sales at Less Than Fair Value: Urea Ammonium Nitrate Solutions From the Russian Federation

AGENCY: Import Administration, International Trade Administration, Department of Commerce.

ACTION: Notice of final determination of sales at less than fair value.

EFFECTIVE DATE: March 3, 2003.

FOR FURTHER INFORMATION CONTACT: Paige Rivas or Tom Futtner, AD/CVD Enforcement, Office 4, Group II, Import Administration, International Trade Administration, U.S. Department of Commerce, 14th Street and Constitution Avenue, NW., Washington, DC 20230; telephone: (202) 482-0651, and (202) 482-3814, respectively.

SUPPLEMENTARY INFORMATION:

Final Determination

We determine that urea ammonium nitrate solutions (UANS) from the Russian Federation (Russia) are being sold, or are likely to be sold, in the United States at less than fair value (LTFV), as provided in section 735 of the Tariff Act of 1930, as amended, (the Act). The estimated margins of sales at LTFV are shown in the Final Determination of Investigation section of this notice.

Case History

On October 3, 2002, the Department of Commerce (the Department) published the preliminary determination of sales at LTFV in the antidumping duty investigation of UANS from Russia. See Notice of Preliminary Determination of Sales at Less Than Fair Value: Urea Ammonium Nitrate Solutions from the Russian Federation, 67 FR 62008 (October 3, 2002) (Preliminary Determination). Since the preliminary determination, the following events have occurred.

During October 2002, the Department conducted a verification of JSC Nevinnomysskij Azot's (Nevinka's) sales and factors of production (FOP) information. See Memorandum from Paige Rivas to the File, “Verification of Sales and Factors of Production Information Reported by Nevinnomysskij Azot,” dated December 11, 2002.

On November 1, 2002, the petitioner ¹ filed a request for a public hearing in this investigation. However, no hearing was held in this investigation because the petitioner withdrew its request for a hearing.

¹ The petitioner in this investigation is the Nitrogen Solutions Fair Trade Committee. Its members consist of CF Industries, Inc., Mississippi Chemical Corporation, and Terra Industries Inc.

On November 7, 2002, the Department published a postponement of the final determination of sales at LTFV in the antidumping duty investigation of UANS from Russia. See Postponement of the Final Determinations in the Less-Than-Fair-Value Investigations of Urea Ammonium Nitrate Solutions From Belarus, the Russian Federation, and Ukraine, 67 FR 67823 (November 7, 2002).

The petitioner, Nevinka, and JR Simplot filed surrogate value information and data on November 26, 2002.

Parties filed case and rebuttal briefs on January 7 and January 14, 2002, respectively.

Continuation of Investigation

On February 19, 2003, the Department signed a suspension agreement with Nevinka, JSC Kuybyshevazot/Togliatti, and S.P. Novolon/Novomoskovsk. On February 20, 2003, we received a request from the petitioner requesting that we continue the investigation. Pursuant to this request, we have continued and completed the investigation in accordance with section 734(g) of the Act. If the International Trade Commission (ITC) determines that material injury exists, the Agreement shall remain in force but the Department shall not issue an antidumping order so long as (1) the Agreement remains in force, (2) the Agreement continues to meet the requirements of subsections 734b(1) and (c) of the Act, as appropriate and (3) the parties to the Agreement carry out their obligations under the Agreement in accordance with its terms.

Scope of the Investigation

For purposes of this investigation, the product covered is all mixtures of urea and ammonium nitrate in aqueous or ammoniacal solution, regardless of nitrogen content by weight, and regardless of the presence of additives, such as corrosion inhibitors. The merchandise subject to this investigation is classified in the Harmonized Tariff Schedule of the United States (HTSUS) under item number 3102.80.00.00. Although the HTSUS item number is provided for convenience and U.S. Customs Service (the Customs Service) purposes, the written description of the merchandise under investigation is dispositive.

Period of Investigation

The period of investigation (POI) is October 1, 2001, through March 31, 2002.

Analysis of Comments Received

All issues raised in the case and rebuttal briefs by parties to this proceeding and to which we have responded are listed in the Appendix to this notice and addressed in the Memorandum from Bernard T. Carreau to Faryar Shirzad, “Issues and Decision Memorandum for the Antidumping Duty Investigation of Urea Ammonium Nitrate Solutions from the Russian Federation,” dated concurrently with this notice (Decision Memorandum), which is hereby adopted by this notice. Parties can find a complete discussion of the issues raised in this investigation and the corresponding recommendations in this public memorandum, which is on file in the Central Records Unit (CRU), room B-099 of the main Department building. In addition, a complete version of the Decision Memorandum can be accessed directly on the Web at http://ia.ita.doc.gov. The paper copy and electronic version of the Decision Memorandum are identical in content.

Non-Market Economy

The Department has treated Russia as a nonmarket economy (NME) country in previous antidumping investigations (see e.g., Notice of Final Determination of Sales at Less Than Fair Value: Structural Steel Beams From the Russian Federation, 67 FR 35490 (May 20, 2002); Notice of Final Determination of Sales at Not Less Than Fair Value: Pure Magnesium From the Russian Federation, 66 FR 49347, (September 27, 2001); and Notice of Final Determination of Sales at Less Than Fair Value: Certain Cold-Rolled Flat-Rolled Carbon-Quality Steel Products From the Russian Federation, 65 FR 5510 (February 4, 2000)). In accordance with section 771(18)(C) of the Act, any determination that a foreign country is an NME country shall remain in effect until revoked. On June 6, 2002, the Department revoked Russia's NME status effective April 1, 2002. Because the POI for this investigation precedes the effective date of the market economy determination, this final determination is based on information contained in the NME questionnaire responses submitted by the respondent. Therefore, pursuant to section 771(18)(C) of the Act, the Department has continued to treat Russia as an NME country for the purposes of this investigation.

Separate Rates

In our Preliminary Determination, we found that the only responding company, Nevinka, met the criteria for the application of separate, company-specific antidumping duty rates. We have not received any other information since the preliminary determination which would warrant reconsideration of our separate rates determination with respect to this company. For a complete discussion of the Department's determination that Nevinka is entitled to a separate rate, see the Preliminary Determination.

The Russia-Wide Rate

In the Preliminary Determination, we found that the use of a Russia-wide rate was appropriate for other exporters in Russia based on our presumption that those respondents who failed to demonstrate entitlement to a separate rate constitute a single enterprise under common control by the Russian government. Because we have received no comments regarding our decision to apply the Russia-wide rate to all entries of the merchandise under investigation except for entries from Nevinka, we have continued to apply this rate in the final determination. We also determined that, pursuant to section 776(a) of the Act, the Department is required to base the margin for the Russia-wide entity on the facts available, because information necessary to calculate this margin is not available on the record. Further, we determined, pursuant to section 776(b) of the Act, that because the Russia-wide entity had failed to act to the best of its ability by not responding to the Department's requests for information, it was appropriate to use an adverse inference in selecting the facts available. The Russia-wide rate applies to all entries of the merchandise under investigation except for entries from Nevinka.

When analyzing the petition for purposes of the initiation, the Department reviewed all of the data upon which the petitioner relied in calculating the estimated dumping margin and determined that the margin in the petition was appropriately calculated and supported by adequate evidence, in accordance with the statutory requirements for initiation. In order to corroborate the petition margin for purposes of using it as adverse facts available, we examined the price and cost information provided in the petition in the context of our preliminary determination. For further details, see Memorandum from Paige Rivas to Holly A. Kuga, “Corroboration of Secondary Information,” dated September 26, 2002. We received no comments on this decision and continue to find in this final determination that the rate contained in the petition, as recalculated, has probative value.

Since the preliminary determination, we have revised several surrogate values. In order to take into account these values, we have recalculated the petition margin using, where possible, the revised surrogate values. As a result of this recalculation, the Russia-wide rate is, for the final determination, 239.14 percent. See Memorandum from Paige Rivas to the File, “Corroboration of Secondary Information,” dated February 21, 2003.

Surrogate Country

For purposes of the final determination, we continue to find that Egypt remains the appropriate surrogate country for Russia. For further discussion and analysis regarding the surrogate country selection for Russia, see the Preliminary Determination.

Verification

As provided in section 782(i) of the Act, we verified the information submitted by the respondent for use in our final determination. We used standard verification procedures including examination of relevant accounting and production records, and original source documents provided by the respondents. For changes from the Preliminary Determination as a result of verification, see the Changes Since the Preliminary Determination section below.

Changes Since the Preliminary Determination

Based on our findings at verification and on our analysis of the comments received, we have made adjustments to the calculation methodologies used in the Preliminary Determination. These adjustments are listed below and discussed in detail in the (1) Decision Memorandum, (2) Memorandum from the Team to the File, “Final Factors of Production Valuation Memorandum,” dated February 21, 2003, (Factors Memorandum) and (3) Memorandum from the Team to the File, “Calculation Memorandum for the Final Determination,” dated February 21, 2003 (Calculation Memorandum).

1. We accepted minor corrections to the FOP database presented at verification. For our final calculations, we used the updated consumption rates submitted by Nevinka at verification. See Calculation Memorandum.

2. We calculated a surrogate value for water using the water consumption rate for residential use for Egypt found on the Department's Trade Information Center web page (http://www.trade.gov/td/tic), rather than including water in overhead as we did in the preliminary determination. See Comment 5 of the Decision Memorandum.

3. We calculated a surrogate value for steam energy by converting the energy content for steam, which is measured in gigacalories, to kilowatt hours using the electricity surrogate value calculated in the Preliminary Determination, rather than including it in overhead as was done in the Preliminary Determination. See Comment 5 of the Decision Memorandum.

4. In determining U.S. price, we calculated the market economy freight expenses for inland freight for shipments of UANS to the port of export. See Calculation Memorandum.

5. We revised the surrogate value for labor and are using the 2000 wage rate for Russia, as corrected on the Department's website in February 2003. See Factors Memorandum.

6. We revised our calculation of freight costs for the FOP to include the revised distances identified during verification. See Calculation Memorandum.

7. We revised our calculation of the net U.S. price to not include foreign inland freight for observations 7, 8, and 9. See Comment 4 of the Decision Memorandum.

8. We revised our calculation of the net U.S. price to include billing adjustments, where appropriate. See Comment 2 of the Decision Memorandum.

9. We revised our calculation of surrogate financial ratios. See Comment 6 of the Decision Memorandum.

Suspension of Liquidation

On February 19, 2003, the Department signed a suspension agreement with Nevinka. Pursuant to that suspension agreement, we have instructed Customs to terminate the suspension of liquidation of all entries of UANS from Russia. Any cash deposits for entries of UANS from Russia shall be refunded and any bonds shall be released. On February 20, 2003, we received a request from the petitioner that we continue the investigation. Pursuant to this request, we have continued and completed the investigation in accordance with section 734(g) of the Act. We have found the following weighted-average dumping margins:

Manufacturer/exporter | Weighted-average margin (percent)
JSC Nevinnomysskij Azot | 106.98
Russia-Wide Rate | 239.14

The Russia-wide rate applies to all entries of the subject merchandise except for entries from Nevinka.

International Trade Commission Notification

In accordance with section 735(d) of the Act, we have notified the International Trade Commission (ITC) of our determination. Because our final determination is affirmative, the ITC will, within 45 days, determine whether these imports are materially injuring, or threatening material injury to, the U.S. industry. If the ITC determines that material injury, or threat of material injury does not exist, the Agreement will have no force or effect, and the investigation shall be terminated. See section 734(f)(3)(A) of the Act. If the ITC determines that such injury does exist, the Agreement shall remain in force but the Department shall not issue an antidumping order so long as (1) the Agreement remains in force, (2) the Agreement continues to meet the requirements of subsections (d) and (c)(l) of the Act, and (3) the parties to the Agreement carry out their obligations under the Agreement in accordance with its terms. See section 734(f)(3)(B) of the Act. This determination is issued and published in accordance with sections 735(d) and 777(i)(1) of the Act.

Notification Regarding Administrative Protective Order (APO)

This notice also serves as a reminder to parties subject to APO of their responsibility concerning the disposition of proprietary information disclosed under APO in accordance with 19 CFR 351.305. Timely notification of return/destruction of APO materials or conversion to judicial protective order is hereby requested. Failure to comply with the regulations and the terms of an APO is a sanctionable violation.

This determination is issued and published in accordance with sections 735(d) and 777(i)(1) of the Act.

Dated: February 21, 2003.
Faryar Shirzad,
Assistant Secretary for Import Administration.

Appendix—Issues in Decision Memorandum

Comment 1: Whether the Department Should Continue to Value Natural Gas Using the Price from Gas Producers to the Egyptian Government.

Comment 2: Whether the Department Should Continue to Deny Billing Adjustments.

Comment 3: Whether the Department Should Consider Observation 16 to be Within the POI.

Comment 4: Whether the Department Should Reflect in its Final Determination that Nevinka Did Not Pay Foreign Inland Freight Charges for Observations 7 through 9.

Comment 5: Whether the Department Should Continue to Treat Catalysts, Water, and Water-based Inputs as Overhead Items.

Comment 6: Whether the Department Should Calculate its Surrogate Financial Ratios Based Upon One Egyptian Producer.

[FR Doc. 03-4927 Filed 2-28-03; 8:45 am]

BILLING CODE 3510-DS-P